DEPARTMENT OF STATE

[Public Notice: 9358]

Modification of Iran, North Korea, and Syria Nonproliferation Act Measures Against a Russian Entity

AGENCY: Department of State.

ACTION: Notice.

SUMMARY: A decision has been made, pursuant to the Iran, North Korea, and Syria Nonproliferation Act, to modify nonproliferation measures pursuant to this Act on a Russian foreign person.

DATES: Effective Date: November 25, 2015.

FOR FURTHER INFORMATION CONTACT: Pamela K. Durham, Office of Missile, Biological, and Chemical Nonproliferation, Bureau of International Security and Nonproliferation, Department of State, Telephone (202) 647-4930.

SUPPLEMENTARY INFORMATION: On September 2, 2015, the United States Government announced the imposition of measures including the following against Rosoboronexport (ROE) (Russia) and any successor, sub-unit, or subsidiary thereof: “No department or agency of the United States Government may procure or enter into any contract for the procurement of any goods, technology, or services from [Rosoboronexport (ROE) (Russia) and any successor, sub-unit, or subsidiary thereof], except to the extent that the Secretary of State otherwise may determine . . . .” (See 80 FR 53222, Public Notice 9251; and 80 FR 65844, Public Notice 9329).

The United States Government has decided to modify the measure described above against ROE and any successor, sub-unit, or subsidiary thereof as follows. The measure described above shall not apply to subcontracts at any tier with ROE and any successor, sub-unit, or subsidiary thereof made on behalf of the United States Government for goods, technology, and services for the maintenance, repair, overhaul, or sustainment of Mi-17 helicopters for the purpose of providing assistance to the security forces of Afghanistan, as well as for the purpose of combating terrorism and violent extremism globally.

Such subcontracts include the purchase of spare parts, supplies, and related services for these purposes. This modification applies retroactively as of the effective date of the sanctions, and will remain in place for two years from that date, except to the extent that the Secretary of State may otherwise determine.

This modification does not apply to any other measures imposed pursuant to the INKSNA and announced in Public Notice 9251 published on September 2, 2015 (80 FR 53222).

Dated: November 19, 2015.
Thomas M. Countryman,
Assistant Secretary of State for International Security and Nonproliferation.

[FR Doc. 2015-30058 Filed 11-24-15; 8:45 am]

BILLING CODE 4710-27-P